NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 12, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant

Permit Application: 2013-020.

Lockheed Martin IS&GS, Antarctic Support Contract, 7400 S. Tucson Way, Centennial, CO 80112-3938.

Activity for Which Permit Is Requested

Introduce non-indigenous species into Antarctica. The applicant plans to import and use commercially available, freeze-dried marine bacterium, Vibrio fisheri, NRRL B-11177, for experimental use at the Crary Science and Engineering Center (CSEC) at McMurdo Station. This bacterium is used as one of the reagents for the Microtox toxicity analyzer, Azur Environmental model 500, 0073486. The bacterium is used with a reconstituting reagent to determine toxicity levels. All laboratory plastic-ware (tubes tips, etc.) used with the bacteria will be autoclaved to destroy any residual bacteria.

Location

McMurdo Station. Antarctica.

Dates

October 10, 2012 to August 31, 2017.

Applicant

Permit Application: 2013-021.

Larissa Min, 1425 E. Prospect St., #5, Seattle, WA 98112.

Activity for Which Permit Is Requested

Enter Antarctic Specially Protected Areas. The applicant plans to enter ASPA 105—Beaufort Island, ASPA 121—Cape Royds, ASPA 124—Cape Crozier, ASPA 131—Canada Glacier, ASPA 154—Cape Evans, ASPA 156—Backdoor Bay, Cape Royds, ASPA 157—Discovery Hut, and ASPA 172—Blood Falls to photograph, audio tape and shoot video of science teams working in these various areas. In addition, the applicant will photograph the historic huts to document how the early explorers coped with the environment. The applicant will use these observations to construct a creative narrative of Antarctica and its scientific pursuits.

Location

ASPA 105—Beaufort Island, ASPA 121—Cape Royds, ASPA 124—Cape Crozier, ASPA 131—Canada Glacier, ASPA 154—Cape Evans, ASPA 156—Backdoor Bay, Cape Royds, ASPA 157—Discovery Hut, ASPA 172—Blood Falls, and the McMurdo Sound sea ice.

Dates

October 1, 2012 to February 28, 2012.

Nadene G. Kennedy,
Permit Officer, Office of Polar Programs.

[FR Doc. 2012-22426 Filed 9-11-12; 8:45 am]

BILLING CODE 7555-01-P